DEPARTMENT OF HEALTH AND HUMAN SERVICES

Centers for Disease Control and Prevention

[60Day-22-21IO; Docket No. CDC-2021-0108]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other Federal agencies the opportunity to comment on a proposed and/or continuing information collection, as required by the Paperwork Reduction Act of 1995. This notice invites comment on a proposed information collection project titled “Evaluation Reporting Template for National and State Tobacco Control Program.” This data collection project supports the evaluation of CDC-RFA-DP20-2001: The National and State Tobacco Control Program.

DATES: CDC must receive written comments on or before December 13, 2021.

ADDRESSES: You may submit comments, identified by Docket No. CDC-2021-0108 by any of the following methods:

• Federal eRulemaking Portal: Regulations.gov. Follow the instructions for submitting comments.

• Mail: Jeffrey M. Zirger, Information Collection Review Office, Centers for Disease Control and Prevention, 1600 Clifton Road NE, MS H21-8, Atlanta, Georgia 30329.

Instructions: All submissions received must include the agency name and Docket Number. CDC will post, without change, all relevant comments to Regulations.gov.

Please note: Submit all comments through the Federal eRulemaking portal (regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS H21-8, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

Evaluation Reporting Template for National and State Tobacco Control Program—New—National Center for Chronic Disease Prevention and Health Promotion (NCCDPHP), Centers for Disease Control and Prevention (CDC).

Background and Brief Description

CDC's Office on Smoking and Health (OSH) created the National and State Tobacco Control Program (NTCP) in 1999 to encourage coordinated, national efforts to reduce tobacco-related diseases and deaths. The NTCP provides funding and technical support to state and territorial health departments. NTCP funds 50 states, Washington, DC, Puerto Rico, and Guam. NTCP-funded programs are working to eliminate exposure to secondhand smoke, promote quitting among adults and youth, prevent initiation among youth and young adults, and identify and eliminate tobacco-related disparities. To reach these goals, the programs implement State and Community Interventions, Mass-Reach Health Communication Interventions, Tobacco Use and Dependence Treatment Interventions, and conduct Surveillance and evaluation.

This information collection project supports the NTCP state and territorial tobacco program managers, administrators, and evaluators by specifying which information should be included in their annual evaluation reports. Furthermore, the information collected via this form will allow CDC's OSH to monitor and evaluate program performance; document facilitators and barriers, lessons learned, and promising practices; establish processes to support continuous program improvement and development; and assess the effectiveness and outcomes of the NTCP.

This new information collection request (ICR) pertains to the form titled “Evaluation Reporting Template (ERT) for National and State Tobacco Control Program.” The collection of this information is part of a federal reporting requirement for funds received by NTCP recipients. The information collection form will consolidate information necessary for evaluation of the NTCP. The data collected through ERT was compared to all other potential evaluation data sources and designed not to duplicate any information collected in other tools. Although other NTCP data collection tools are currently in use to collect data for NTCP (Monitoring and Reporting System for the National Tobacco Control Program; OMB Control #: 0920-1097, Exp. 04/30/2023), these existing data collection tools are focused on financial and programmatic management, program implementation, and performance measurement. By contrast, the ERT will collect process and outcome evaluation findings resulting from individual evaluations designed by each NTCP recipient. Findings will include contextual factors, indicators, lessons learned, and information about health equities and health disparities. Recipients will use the ERT to report information to CDC about their Tobacco Control Program evaluation findings. Each recipient will submit an Annual Evaluation Report template using the Microsoft Word-based Evaluation Reporting Tool.

Current respondents are 53 cooperative agreement recipients. The estimated burden per response is eight hours for each Annual Evaluation Report. Over the three-year period of this information collection request, the total estimated annualized burden for the current 53 current recipients is 424 hours. A three-year approval period is requested for the proposed collection.

Estimated Annualized Burden Hours
Type of respondents | Form name | Number of respondents | Number of responses per respondent | Average burden per response (in hours) | Total burden (in hours)
State and Territorial Health Department Tobacco Control Program Staff | Evaluation Reporting Template for National and State Tobacco Control Program | 53 | 1 | 8 | 424
Total |  |  |  |  | 424

Jeffrey M. Zirger,
Lead, Information Collection Review Office, Office of Scientific Integrity, Office of Science, Centers for Disease Control and Prevention.

[FR Doc. 2021-22178 Filed 10-12-21; 8:45 am]

BILLING CODE 4163-18-P